DEPARTMENT OF LABOR

Occupational Safety and Health Administration

[Docket No. ICR-1218-0065(2000)]

Regulation on Access to Employee Exposure and Medical Records; Extension of the Office of Management of Budget's (OMB) Approval of Information—Collection (Paperwork) Requirements

AGENCY: Occupational Safety and Health Administration (OSHA), Labor.

ACTION: Notice of an opportunity for public comment.

SUMMARY: OSHA solicits comments concerning the increased burden hours proposed for, and the extension of, the information-collection requirements contained in its regulation titled “Access to Employee Exposure and Medical Records” (the “Access Regulation”) (29 CFR 1910.1020).

Request for Comment: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 27, 2000.

ADDRESSES: Submit written comments to the Docket Office, Docket No. ICR-1218-0065(2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, OSHA, U.S. Department of Labor, Room N-3641, 200 Constitution Avenue, NW., Washington, DC 20210; telephone: (202) 693-2444. A copy of the Agency's Information Collection Request (ICR) supporting the need for the information-collection requirements specified by the Access Regulation is available for inspection and copying in the Docket Office, or you may request a mailed copy by telephoning Todd Owen at (202) 693-2444. For electronic copies of this ICR, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

Under the authority granted by the OSH Act, OSHA published a health regulation governing access to employee exposure-monitoring data and medical records. This regulation does not require employers to collect any information or to establish any new systems of records. Rather, it requires that employers provide employees, their designated representatives, and OSHA with access to employee exposure-monitoring and medical records, and any analyses resulting from these records, that employers must maintain under OSHA's toxic-chemical and harmful physical-agent standards. In this regard, the regulation specifies requirements for record access, record retention, employee information, trade-secret management, and record transfer. Accordingly, the Agency attributes the burden hours and costs associated with exposure monitoring and measurement, medical surveillance, and the other activities required to generate the data governed by the regulation to the health standards that specify these activities; therefore, OSHA did not include these burden hours and costs in this ICR.

Access to exposure and medical information enables employees and their designated representatives to become directly involved in identifying and controlling occupational health hazards, as well as managing and preventing occupationally-related health impairment and disease. Providing the Agency with access to the records permits it to ascertain whether or not employers are complying with the regulation, as well as the recordkeeping requirements of its other health standards; therefore, OSHA access provides additional assurance that employees and their designated representatives are able to obtain the data they need to conduct their analyses.

II. Proposed Actions

OSHA proposes to increase the existing burden hours specified for, and to extend OMB's approval of, the collection-of-information (paperwork) requirements contained in the Access Regulation. Accordingly, the Agency is increasing its previous estimate of 578,803 burden hours by 31,271 burden hours. This adjustment is the result of OSHA increasing the number of inspections in which its compliance officers review employee exposure and medical records as specified in paragraph (e)(2) of the Regulation. OSHA will summarize the comments submitted in response to this notice, and will include this summary in the request to OMB to extend the approval of the information-collection requirements contained in the Access Regulation.

Type of Review: Extension of currently approved information-collection requirements.

Title: Access to Employee Exposure and Medical Records (29 CFR 1910.1020).

OMB Number: 1218-0065.

Affected Public: Business or other for-profit organizations; Federal government; State, Local, or Tribal governments.

Number of Respondents: 785,875.

Frequency: On occasion.

Total Responses: 4,710,291.

Average Time per Response: 7 minutes.

Estimated Total Burden Hours: 610,074 hours.

Estimated Cost (Operation and Maintenance): $0.

III. Authority and Signature

Charles N. Jeffress, Assistant Secretary of Labor for Occupational Safety and Health, directed the preparation of this notice. The authority for this notice is the Paperwork Reduction Act of 1995 (44 U.S.C. 3506) and Secretary of Labor's Order No 3-2000 (65 FR 50017).

Signed at Washington, DC on September 19, 2000.
Charles N. Jeffress,
Assistant Secretary of Labor.

[FR Doc. 00-24806 Filed 9-26-00; 8:45 am]

BILLING CODE 4510-26-P